DEPARTMENT OF COMMERCE

Bureau of Industry and Security

15 CFR Chapter VII

[Docket No. 020417087-2087-01]

RIN 0694-XX21

Industry and Security Programs; Change of Agency Name

AGENCY: Bureau of Industry and Security, Commerce.

ACTION: Final rule; Nomenclature change.

SUMMARY: On April 18, 2002, the Department of Commerce, through an internal organizational order, changed the name of the “Bureau of Export Administration” to the “Bureau of Industry and Security.” Consistent with this action, this rule makes appropriate conforming changes in chapter VII of title 15 of the Code of Federal Regulations. The rule also sets forth a Savings Provision in SUPPLEMENTARY INFORMATION that preserves, under the new name, all actions taken under the name of the Bureau of Export Administration and provides that any references to the Bureau of Export Administration in any document or other communication shall be deemed to be references to the Bureau of Industry and Security.

DATES: This rule is effective on April 18, 2002.

FOR FURTHER INFORMATION CONTACT: Miriam Cohen, Director of Administration, Bureau of Industry and Security, Telephone: (202) 482-1900.

SUPPLEMENTARY INFORMATION:

Background

This rule implements the decision by the Department of Commerce, through an internal organizational order (Amendment 3 to DOO 50-1, dated April 18, 2002), to change the name of the Bureau of Export Administration to the “Bureau of Industry and Security.” The new name more accurately reflects the breadth of the Bureau's activities in the spheres of national, homeland, economic, and cyber security. Consistent with this name change, this rule makes a number of changes in chapter VII of title 15 of the Code of Federal Regulations. Specifically, this rule changes all references to “Bureau of Export Administration” and “BXA,” wherever they appear in chapter VII, to “Bureau of Industry and Security” and “BIS,” respectively. In addition, this rule changes the appropriate definitions sections to conform to the new name of the bureau, and to reflect that the Under Secretary for Export Administration concurrently holds the title of Under Secretary for Industry and Security.

Savings Provision

This rule shall constitute notice that all references to the Bureau of Export Administration or BXA in any documents, statements, or other communications, in any form or media, and whether made before, on, or after the effective date of this rule, shall be deemed to be references to the Bureau of Industry and Security. Any actions undertaken in the name of or on behalf of the Bureau of Export Administration, whether taken before, on, or after the effective date of this rule, shall be deemed to have been taken in the name of or on behalf of the Bureau of Industry and Security.

Rulemaking Requirements

1. This final rule has been determined to be exempt from review for purposes of Executive Order 12866.

2. This rule does not impose information collection and recordkeeping requirements. Consequently, it need not be reviewed by the Office of Management and Budget under the provisions of the Paperwork Reduction Act of 1995.

3. This rule does not contain policies with Federalism implications as this term is defined in Executive Order 13132.

4. The provisions of the Administrative Procedure Act (5 U.S.C. 553) requiring notice of proposed rulemaking, the opportunity for public participation, and a delay in effective date, are inapplicable because this rule involves a rule of agency organization, procedure, or practice. 5 U.S.C. 553(b)(B). Further, no other law requires that a notice of proposed rulemaking and an opportunity for public comment be given for this final rule. Because a notice of proposed rulemaking and an opportunity for public comment are not required to be given for this rule under 5 U.S.C. or by any other law, the analytical requirements of the Regulatory Flexibility Act (5 U.S.C. 601, et seq. ) are not applicable.

Accordingly, this rule is issued in final form. Although there is no formal comment period, public comments on this rule are welcome on a continuing basis. Comments should be submitted to Miriam Cohen, Bureau of Industry and Security, Department of Commerce, P.O. Box 273, Washington, DC 20044.

List of Subjects

15 CFR Part 710

Chemicals, Exports, Foreign trade, Imports, Treaties.

15 CFR Part 719

Administrative proceedings, Exports, Imports, Penalties, Violations.

15 CFR Part 766

Administrative practice and procedure, Confidential business information, Exports, Foreign trade, Law enforcement, Penalties.

For the reasons set forth in the preamble, 15 CFR chapter VII is amended as set forth below:

1. Revise the heading for 15 CFR chapter VII to read as follows:

CHAPTER VII—BUREAU OF INDUSTRY AND SECURITY, DEPARTMENT OF COMMERCE

PART 710—GENERAL INFORMATION AND OVERVIEW OF THE CHEMICAL WEAPONS CONVENTION REGULATIONS (CWCR)

2. The authority citation for part 710 continues to read as follows:

Authority: 22 U.S.C. 6701 et seq.; E.O. 13128, 64 FR 36703.

3. In § 710.1, remove the definition of “Bureau of Export Administration (BXA)” and add in alphabetical order the definition of “Bureau of Industry and Security (BIS)” to read as follows:

§ 710.1 Definitions of terms used in the Chemical Weapons Convention Regulations (CWCR).

* * * * *

Bureau of Industry and Security (BIS). Means the Bureau of Industry and Security of the United States Department of Commerce (formerly the Bureau of Export Administration).

* * * * *

PART 719—ENFORCEMENT

4. The authority citation for part 719 continues to read as follows:

Authority: 22 U.S.C. 6701 et seq.; 50 U.S.C. 1601 et seq.; 50 U.S.C. 1701 et seq.; E.O. 12938, 59 FR 59099, 3 CFR, 1994 Comp., p. 950; E.O. 13128, 64 FR 36703.

5. In § 719.1(b), remove the definition of “Under Secretary for Export Administration,” and add in alphabetical order a definition of “Under Secretary for Industry and Security” to read as follows:

§ 719.1 Scope and definitions.

* * * * *

(b) * * *

Under Secretary for Industry and Security. The Under Secretary for Industry and Security, U.S. Department of Commerce, who shall concurrently hold the title of Under Secretary for Export Administration.

PART 766—ADMINISTRATIVE ENFORCEMENT PROCEEDINGS

6. The authority citation for part 766 continues to read as follows:

Authority: 50 U.S.C. app. 2401 et seq.; 50 U.S.C. 1701 et seq.; E.O. 12924, 59 FR 43437, 3 CFR, 1994 Comp., p. 917; Notice of August 10, 1999, 64 FR 44101 (August 13, 1999).

7. In § 766.2, remove the definition of “Bureau of Export Administration (BXA)” and add in alphabetical order the definition of “Bureau of Industry and Security (BIS)” and revise the definition of “Under Secretary” to read as follows:

§ 766.2 Definitions.

* * * * *

Bureau of Industry and Security (BIS). Bureau of Industry and Security, U.S. Department of Commerce (formerly the Bureau of Export Administration) and all of its component units, including, in particular for purposes of this part, the Office of Antiboycott Compliance, the Office of Export Enforcement, and the Office of Exporter Services.

* * * * *

Under Secretary. The Under Secretary for Export Administration, United States Department of Commerce, who shall concurrently hold the title of Under Secretary for Industry and Security.

CHAPTER VII—[AMENDED]

8. In addition to the previous amendments, in 15 CFR chapter VII, revise all references to “Bureau of Export Administration” to read “Bureau of Industry and Security”; revise all references to “Bureau of Export Administration's” to read “Bureau of Industry and Security's”; revise all references to “BXA” to read “BIS'; and revise all references to “BXA's” to read “BIS's”.

Dated: April 19, 2002.
Kenneth I. Juster,
Under Secretary for Industry and Security.

[FR Doc. 02-10166 Filed 4-25-02; 8:45 am]

BILLING CODE 3510-33-P